ENVIRONMENTAL PROTECTION AGENCY

[EPA-HQ-OPA-2007-0042; FRL-8277-8]

Agency Information Collection Activities; Proposed Collection; Comment Request; Renewal of Information Collection Request for the National Oil and Hazardous Substances Pollution Contingency Plan Regulation Subpart J; EPA ICR No. 1664.06, OMB Control No. 2050-0141

AGENCY: Environmental Protection Agency (EPA).

ACTION: Notice.

SUMMARY: In compliance with the Paperwork Reduction Act (PRA) (44 U.S.C. 3501 et seq.), this document announces that EPA is planning to submit a request to renew an existing approved Information Collection Request (ICR) to the Office of Management and Budget (OMB). This ICR is scheduled to expire on 6/30/2007. Before submitting the ICR to OMB for review and approval, EPA is soliciting comments on specific aspects of the proposed information collection as described below.

DATES: Comments must be submitted on or before April 16, 2007.

ADDRESSES: Submit your comments, identified by Docket ID No. EPA-HQ-OPA-2007-0042, by one of the following methods:

• www.regulations.gov: Follow the on-line instructions for submitting comments.

• E-mail: Nichols.nick@epa.gov.

• Fax: 202-564-2625.

• Mail: [EPA-HQ-OPA-2007-0042], Environmental Protection Agency, Mailcode: 5104A, 1200 Pennsylvania Ave., NW., Washington, DC 20460.

• Hand Delivery: Environmental Protection Agency, Mailcode: 5104A, 1200 Pennsylvania Ave., NW., Washington, DC 20460. Such deliveries are only accepted during the Docket's normal hours of operation, and special arrangements should be made for deliveries of boxed information.

Instructions: Direct your comments to Docket ID No. EPA-HQ-OPA-2007-0042. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

FOR FURTHER INFORMATION CONTACT: William “Nick” Nichols, Office of Emergency Management, (5104A), Environmental Protection Agency, 1200 Pennsylvania Ave., NW., Washington, DC 20460; telephone number: 202-564-1970; fax number: 202-564-2625; e-mail address: Nichols.nick@epa.gov.

SUPPLEMENTARY INFORMATION:

How Can I Access the Docket and/or Submit Comments?

EPA has established a public docket for this ICR under Docket ID No. EPA-HQ-OPA-2007-0042, which is available for online viewing at www.regulations.gov, or in-person viewing at the Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the OPA Docket is 202-566-0270. Use www.regulations.gov to obtain a copy of the draft collection of information, submit or view public comments, access the index listing of the contents of the docket, and to access those documents in the public docket that are available electronically. Once in the system, select “search,” then key in the docket ID number identified in this document.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

[Docket ID No. EPA-EPA-HQ-OPA-2007-0042]

Affected entities: Entities potentially affected by this action are Respondents including, but are not limited to, manufacturers of bioremediation agents, dispersants, surface collecting agents, surface washing agents and other chemical agents and biological additives used as countermeasures against oil spills. Affected private industries can be expected to fall within the following industrial classifications:

• Manufacturers of industrial inorganic chemicals (SIC 281/NAICS 325188),

• Manufacturers of industrial organic chemicals (SIC 286/NAICS 325199), and

• Manufacturers of miscellaneous chemical products (SIC 289/NAICS 325998).

Title: Renewal of Information Collection Request for the National Oil and Hazardous Substances Pollution Contingency Plan Regulation, Subpart J (40 CFR 300.900)

ICR numbers: EPA ICR No. 1664.06 OMB Control No. 2050-0141.

ICR status: This ICR is currently scheduled to expire on 6/30/2007. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: Section 311(d)(2)(G) of the Clean Water Act (CWA), requires a product schedule, identifying “dispersants, other chemicals, and other spill mitigating devices and substances, if any, that may be used in carrying out” the National Contingency Plan (NCP). The authority of the President to implement the CWA is currently delegated to EPA by Executive Order 12777 (56 FR 54757, October 18, 1991). The use of dispersants, other chemical agents, and biological additives to respond to oil spills in U.S. waters is governed by Subpart J of the NCP (40 CFR 300.900). The information collected is mandatory if you wish to place a product on the Schedule. Most required information needs to be submitted on paper however, once a company contacts EPA, the Product Schedule Manager can allow some data and information to be sent electronically.

The Schedule is available for use by On-Scene Coordinators (OSC), Regional Response Teams, and Area Committees in determining the most appropriate products to use or prohibit in various spill scenarios. Under 40 CFR 300.910(a), RRTs and Area Committees are required to address the desirability of using the products on the Schedule in their REGIONAL CONTINGENCY PLANS (RCPs) and AREA CONTINGENCY PLANS (ACPs), respectively. The required information is needed from the respondent so that the OSCs, RRTs, and Area Committees can make informed decisions to safely employ chemical/biological countermeasures to control oil discharges. Correct product use is critical in emergency situations. Subpart J ensures that OSCs, RRTs, and Area Committees have necessary data regarding the toxicity, effectiveness, and other characteristics of different products.

To place a product on the Schedule, Subpart J requires that the manufacturer conduct specific toxicity and effectiveness tests and submit the corresponding technical product data and other required information to EPA Office of Emergency Management (OEM). EPA has established an effectiveness threshold for listing dispersants (40 CFR 300.920(a)(2)). Only those dispersants that meet or exceed the established threshold will be listed on the Schedule.

At 40 CFR 300.915(d), EPA requires respondents to test bioremediation agents for effectiveness, using the testing protocol contained in Appendix C to part 300. The Bioremediation Agent Effectiveness Test is used to compare the effectiveness of different bioremediation agents. The objective of the effectiveness testing protocol is to provide empirical laboratory evidence that evaluates a bioremediation agent's ability to enhance biodegradation as compared to the natural population.

Practical Utility/Users of the Data

EPA places eligible oil spill mitigating agents on the Schedule if all the required data are submitted. The Schedule is available for use by OSCs, RRTs, and Area Committees in determining the most appropriate products to use in various spill scenarios. Under 40 CFR 300.910(a), RRTs and Area Committees are required to address the desirability of using the products on the Schedule in their RCPs and ACPs, respectively. The required information is needed from the respondent so that the OSCs, RRTs, and Area Committees can make informed decisions to safely employ chemical/biological countermeasures to control oil discharges. Correct product use is critical in emergency situations. Subpart J ensures that OSCs, RRTs, and Area Committees have the necessary data regarding the toxicity, effectiveness, and other characteristics of different products.

At 40 CFR 300.920(c), respondents are allowed to assert that certain information in the technical product data submissions is confidential business information. EPA will handle such claims pursuant to the provisions in 40 CFR part 2, subpart B. Such information must be submitted separately from non-confidential information, clearly identified, and clearly marked “Confidential Business Information.” If the applicant fails to make such a claim at the time of submittal, EPA may make the information available to the public without further notice.

Burden Statement: The annual public reporting and recordkeeping burden for this collection of information is estimated to average 57 to 122 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 14 per year.

Frequency of response: On occasion.

Estimated total average number of responses for each respondent: 1 response for each respondent.

Estimated total annual burden hours: 390 hours for all 14 respondents.

Estimated total annual costs: $100,092, this includes an estimated burden cost of $17,292 and an estimated cost of $82,800 for capital investment or maintenance and operational costs.

Are There Changes in the Estimates From the Last Approval?

There is no change of hours in the total estimated respondent burden compared with that identified in the ICR currently approved by OMB. EPA anticipates the same number of annual burden hours or capital and O&M costs under this ICR renewal. The only modifications made to figures in this ICR supporting statement involve updates to the wage rates associated with respondent and EPA personnel activities. Labor costs are not reported in the OMB inventory.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: February 8, 2007.
Deborah Y. Dietrich,
Director, Office of Emergency Management.

[FR Doc. E7-2544 Filed 2-13-07; 8:45 am]

BILLING CODE 6560-50-P